DEPARTMENT OF HEALTH AND HUMAN SERVICES

National Committee on Vital and Health Statistics

AGENCY: Centers for Disease Control and Prevention.

ACTION: Notice of meeting.

SUMMARY: Pursuant to the Federal Advisory Committee Act, the Department of Health and Human Services (HHS) announces the following advisory committee meeting. This meeting is open to the public. The public is welcome to obtain the link to attend this meeting by following the instructions posted on the Committee website: https://ncvhs.hhs.gov/meetings/full-committee-meeting-10/.

Name: National Committee on Vital and Health Statistics (NCVHS), Meeting of the full Committee.

DATES: The meeting will be held Wednesday, March 30, 2022: 11:00 a.m.-3:00 p.m. EST.

ADDRESSES: Virtual open meeting.

FOR FURTHER INFORMATION CONTACT: Substantive program information may be obtained from Rebecca Hines, MHS, Executive Secretary, NCVHS, National Center for Health Statistics, Centers for Disease Control and Prevention, 3311 Toledo Road, Hyattsville, Maryland 20782, or via electronic mail to vgh4@cdc.gov; or by telephone (301) 458-4715. Summaries of meetings and a roster of Committee members are available on the home page of the NCVHS website, https://ncvhs.hhs.gov/, where further information including an agenda and instructions to access the broadcast of the meeting will be posted.

Should you require reasonable accommodation, please contact the CDC Office of Equal Employment Opportunity on (770) 488-3210 as soon as possible.

SUPPLEMENTARY INFORMATION: Purpose: As outlined in its Charter, the National Committee on Vital and Health Statistics assists and advises the Secretary of HHS on health data, data standards, statistics, privacy, national health information policy, and the Department's strategy to best address those issues. This includes the adoption and implementation of transaction standards, unique identifiers, operating rules and code sets adopted under the Health Insurance and Portability Act of 1996 (HIPAA).¹

¹ Public Law 104-191, 110 Stat. 1936 (Aug 21, 1996), available at https://www.congress.gov/104/plaws/publ191/PLAW-104publ191.pdf.

At this meeting, the Committee will discuss two letters for approval, each containing a set of recommendations for HHS action. The first set conveys recommendations regarding privacy, confidentiality, and security considerations for data collection and use during a public health emergency. The second set conveys recommendations regarding standards for prior authorization, attachments, and HIPAA-designated transactions in general to support the goal to improve data sharing among patients, providers, payers, public health systems, and other actors in health care.

The Committee will reserve time for public comment toward the end of the agenda. Meeting times and topics are subject to change. Please refer to the agenda posted at the NCVHS website for this meeting at: https://ncvhs.hhs.gov/meetings/full-committee-meeting-10/ for updates.

Sharon Arnold,
Associate Deputy Assistant Secretary, Science and Data Policy, Office of the Assistant Secretary for Planning and Evaluation.

[FR Doc. 2022-05289 Filed 3-11-22; 8:45 am]

BILLING CODE 4150-05-P